DEPARTMENT OF JUSTICE

[OMB Number 1122-NEW]

Agency Information Collection Activities; Proposed eCollection eComments Requested; New Collection

AGENCY: Office on Violence Against Women, Department of Justice.

ACTION: 30-day notice.

SUMMARY: The Department of Justice (DOJ), Office on Violence Against Women, will be submitting the following information collection request to the Office of Management and Budget (OMB) for review and approval in accordance with the Paperwork Reduction Act of 1995. The proposed information collection was previously published in the Federal Register Volume 79, Number 86, pages 25619-25620, on May 5, 2014, allowing for a 60 day comment period.

DATES: Comments are encouraged and will be accepted for an additional 30 days until August 18, 2014.

FOR FURTHER INFORMATION CONTACT: If you have comments especially on the estimated public burden or associated response time, suggestions, or need a copy of the proposed information collection instrument with instructions or additional information, please contact Cathy Poston, Attorney Advisor, Office on Violence Against Women, 145 N Street NE., Washington, DC 20530 (phone:202-514-5430). Written comments and/or suggestions can also be directed to the Office of Management and Budget, Office of Information and Regulatory Affairs, Attention Department of Justice Desk Officer, Washington DC 20503 or send email to OIRA_submission@omb.eop.gov.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New Collection.

(2) The Title of the Form/Collection: OVW Peer Reviewer Database.

(3) The agency form number, if any, and the applicable component of the Department sponsoring the collection: The form number is 1122-XXXX. The applicable component within the Department of Justice is the Office on Violence Against Women.

(4) Affected public who will be asked or required to respond, as well as a brief abstract:

The affected public includes individuals whom OVW has identified as potential peer reviewers and invited to submit information to the Peer Reviewer Database. Every year, OVW posts solicitations for numerous grant programs authorized by the Violence Against Women Act to enable communities to increase their capacity to respond to crimes of domestic violence, dating violence, sexual assault, and stalking. In order to carefully consider which grant applications to recommend for funding, OVW assembles peer review panels comprised of experts and practitioners to help evaluate and score grant applications based on the requirements outlined in the different solicitations for the OVW grant programs. OVW assembles peer review panels by inviting experts and practitioners to serve as peer reviewers. Participation in the peer review program is completely voluntary; however, in order to be considered a peer reviewer, the prospective reviewer must enroll in the Database by entering their information online (contact information, resume/curriculum vitae (CV), and other self-identified information, such as employee type, education levels, job categories, ethnicity, expertise areas, and availability). A reviewer can only access, view, and modify their own individual record. OVW staff can access the Database to perform searches and review peer reviewer profiles in order to select an individual to review applications for a particular OVW grant program.

(5) An estimate of the total number of respondents and the amount of time estimated for an average respondent to respond: An estimated 200 individuals participate in the OVW Peer Reviewer Database.

An estimate of the total public burden (in hours) associated with the collection: The estimated public burden associated with this collection is 15 minutes. It is estimated that respondents will take less than 15 minutes to complete periodic and infrequent submissions and updates to the database. The burden hours for collecting respondent data is 50 hours (200 respondents × .25 hours = 50 hours).

If additional information is required contact: Jerri Murray, Department Clearance Officer, United States Department of Justice, Justice Management Division, Policy and Planning Staff, Two Constitution Square, 145 N Street NE., Room 3E.405B, Washington, DC 20530.

Dated: July 15, 2014.
Jerri Murray,
Department Clearance Officer for PRA, U.S. Department of Justice.

[FR Doc. 2014-16899 Filed 7-17-14; 8:45 am]

BILLING CODE 4410-FX-P